DEPARTMENT OF HOMELAND SECURITY

Coast Guard

33 CFR Part 165

[CGD13-02-018]

RIN 1625-AA00

Security Zone: Protection of Tank Ships, Puget Sound, WA

AGENCY: Coast Guard, DHS.

ACTION: Final rule: Notice of enforcement of tank ship security zone.

SUMMARY: The Captain of the Port Puget Sound will begin enforcing the tank ship security zones established by 33 CFR 165.1313 on April 15, 2003. These security zones will be enforced until further notice.

DATES: 33 CFR 165.1313 will be enforced commencing April 15, 2003.

FOR FURTHER INFORMATION CONTACT: Captain of the Port Puget Sound, 1519 Alaskan Way South, Seattle, WA 98134 at (206) 217-6200 or (800) 688-6664 to obtain information concerning enforcement of this rule.

SUPPLEMENTARY INFORMATION: On March 31, 2003, the Coast Guard published a final rule (68 FR 15372) establishing regulations, in 33 CFR 165.1313, for the security of tank ships in the navigable waters of Puget Sound and adjacent waters, Washington. This security zone provides for the regulation of vessel traffic in the vicinity of tank ships and excludes persons and vessels from the immediate vicinity of all tank ships. Entry into this zone is prohibited unless authorized by the Captain of the Port or his designee. The Captain of the Port Puget Sound will begin enforcing the tank ship security zones established by 33 CFR 165.1313 on April 15, 2003. The Captain of the Port may be assisted by other Federal, State, or local agencies in enforcing this security zone.

Dated: April 2, 2003.
Danny Ellis,
Captain, U.S. Coast Guard, Captain of the Port, Puget Sound.

[FR Doc. 03-8943 Filed 4-8-03; 3:22 pm]

BILLING CODE 4910-15-P